SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before September 4, 2001.

ADDRESSES: Send all comments regarding whether these information collections are necessary for the proper performance of the function of the agency, whether the burden estimates are accurate, and if there are ways to minimize the estimated burden and enhance the quality of the collections, to Sandra Johnston, Program Analyst, Office of Financial Assistance, Small Business Administration, 409 3rd Street, S.W., Suite 8300, Washington DC 20416.

FOR FURTHER INFORMATION CONTACT: Sandra Johnston, Program Analyst, (202) 205-7528 or Curtis B. Rich, Management Analyst, (202) 205-7030.

SUPPLEMENTARY INFORMATION: Title: Personal Financial Statement.

Form No: 413.

Description of Respondents: Small Business Loan Applicants.

Annual Responses: 160,000.

Annual Burden: 240,000.

Title: U.S. Small Business Administration Application for Section 504 Loan.

Form No: 1244.

Description of Respondents: Small Businesses Applying for Financial Assistance.

Annual Responses: 5,200.

Annual Burden: 11,700.

Jacqueline White,
Chief, Administrative Information Branch.

[FR Doc. 01-16630 Filed 7-2-01; 8:45 am]

BILLING CODE 8025-01-P